INTERNATIONAL TRADE COMMISSION

[Investigation No. TA-201-71]

Crabmeat From Swimming Crabs

Determination

On the basis of the information in the investigation, the Commission determines,¹ pursuant to section 202(b) of the Trade Act of 1974, that crabmeat from swimming crabs ² is not being imported into the United States in such increased quantities as to be a substantial cause of serious injury or the threat of serious injury to the domestic industry producing an article like or directly competitive with the imported article.

¹ Chairman Stephen Koplan and Vice Chairman Deanna Tanner Okun dissenting.

² For the purposes of this investigation, the subject merchandise is defined as crabmeat from swimming crabs (family Portunidae), in all its forms (except shelf-stable crabmeat in airtight containers), including frozen, fresh, and chilled crabmeat, however packed, preserved, pasteurized, or prepared, and of any grade or size (such as jumbo lump, lump, backfin, claw, select, and the like). Such crabmeat is generally classified in subheadings 1605.10.20 and 1605.10.40 of the Harmonized Tariff Schedule of the United States (HTS), but may also be entering under HTS subheadings 0306.14.20 and 0306.24.20. The petition and scope of investigation initially included shelf-stable crabmeat packed in airtight containers, which is produced using additives and a thermal manufacturing process so that it requires no refrigeration. However, in a letter to the Commission dated April 14, 2000, the petitioner requested the scope of the investigation be amended to exclude such shelf-stable crabmeat. On June 23, 2000, the Commission amended the scope of its investigation to exclude such shelf-stable crabmeat (65 FR 40691, June 30, 2000).

Background

Following receipt of a petition filed on behalf of the Blue Crab Coalition, the Commission, effective March 2, 2000, instituted investigation No. TA-201-71, Crabmeat from Swimming Crabs, under section 202 of the Trade Act of 1974 to determine whether crabmeat from swimming crabs is being imported into the United States in such increased quantities as to be a substantial cause of serious injury, or the threat thereof, to the domestic industry producing an article like or directly competitive with the imported article.

Notice of the institution of the Commission's investigation and of the scheduling of public hearings to be held in connection therewith was given by posting copies of the notice in the Office of the Secretary, U.S. International Trade Commission, Washington, DC, and by publishing the notice in the Federal Register of March 20, 2000 (65 FR 15008). The hearing in connection with the injury phase of the investigation was held on June 15, 2000, in Washington, DC; all persons who requested the opportunity were permitted to appear in person or by counsel.

The Commission transmitted its determination in this investigation to the President on August 29, 2000. The views of the Commission are contained in USITC Publication 3349 (August 2000), entitled Crabmeat from Swimming Crabs: Investigation No. TA-201-71.

By order of the Commission.
Issued: August 31, 2000.
Donna R. Koehnke,
Secretary.

[FR Doc. 00-23010 Filed 9-6-00; 8:45 am]

BILLING CODE 7020-02-P